DEPARTMENT OF TRANSPORTATION

Office of the Secretary

14 CFR Parts 241 and 249

[Docket No. OST-1998-4043]

RIN 2105-AC71

Aviation Data Modernization

AGENCY: Office of the Secretary of Transportation (OST), Department of Transportation.

ACTION: Notice of proposed rulemaking (NPRM); extension of comment period.

SUMMARY: In response to several petitions, the Department of Transportation (the Department) is extending the comment period for 90 days until July 18, 2005, for its NPRM on aviation data modernization published in the Federal Register on February 17, 2005. In the NPRM, DOT proposed to revise the rules governing the nature, scope, source, and means for collecting and processing aviation traffic data.

DATES: Submit comments by July 18, 2005. To the extent possible, we will consider comments received after this date in developing a final rule.

ADDRESSES: You may submit comments identified by the docket number OST-1998-4043 by any of the following methods: Federal eRulemaking Portal: http://www.regulations.gov. Follow the instructions for submitting comments. Web site: http://dms.dot.gov. Follow the instructions for submitting comments on the DOT electronic docket site. Fax: 1-202-493-2251. Mail: Docket Management System; U.S. Department of Transportation, 400 Seventh Street, SW., Nassif Building, Room PL-401, Washington, DC 20590-001. Hand Delivery: To the Docket Management System; Room PL-401 on the plaza level of the Nassif Building, 400 Seventh Street, SW., Washington, DC between 9 am and 5 pm, Monday through Friday, except Federal Holidays.

Instructions: You must include the docket number (OST-98-4043) or the Regulatory Identification Number (RIN 2105-AC71) for this notice at the beginning of your comments. You should submit two copies of your comments if you submit them by mail. If you wish to receive confirmation that the Department received your comments, you must include a self-addressed stamped postcard. Note that all comments received will be posted without change to http://dms.dot.gov, including any personal information provided, and will be accessible to Internet users. Please see the Privacy Act section of this document.

FOR FURTHER INFORMATION CONTACT: Richard Pittaway, Office of Aviation Analysis, 400 Seventh St. SW., Room 6401, Washington, DC 20590-0001, (202) 366-8856, or rick.pittaway@ost.dot.gov.

SUPPLEMENTARY INFORMATION: The Department of Transportation (the Department) is extending until July 18, 2005, the period for interested persons to submit comments on the February 14, 2005 NPRM published in the Federal Register on February 17, 2005 (70 FR 8140). In the NPRM, the Department proposed to revise the rules governing the nature, scope, source, and means for collecting and processing aviation traffic data. Those reporting requirements are known as the: Origin—Destination Survey of Airline Passenger Traffic (O&D Survey); and Form 41, Schedule T-100—U.S. Air Carrier Traffic and Capacity Data by Nonstop Segment and On-flight Market and Form 41, Schedule T-100(f)—Foreign Air Carrier Traffic Data by Nonstop Segment and On-flight Market (collectively, the T-100/T-100(f)). Current traffic statistics no longer adequately measure the size, scope and strength of the air travel industry. This NPRM proposes to simplify the requirements placed upon Carriers reporting the O&D Survey. The proposed changes to the O&D Survey would eliminate the ambiguity in the identification of the Participating Carrier and eliminate the need for manual collection processes by designating the Issuing Carrier as the Participating Carrier. It would also increase accuracy by expanding the volume of data to 100 percent of Ticketed Itineraries, thus making the data more useful by collecting broader information about the Ticketed Itinerary sale and the scheduled itinerary details. The changes to the T-100/T-100(f) being considered, would improve the quality of the data by maximizing the congruence of the O&D Survey and the T-100/T-100(f).

On April 1, 2005, the Air Transport Association of America, Inc. (ATA) filed a motion (OST-1998-4043-71) requesting a 90 day extension of the date on which comments related to the NPRM are due. On April 4, 2005, the Airlines Reporting Corporation (ARC) filed a request (OST-1998-4043-72) for 90 day extension of the comment period and supported the request of ATA. In its answer (OST-1998-4043-73) filed on April 5, 2005, the Airline Tariff Publishing Company supported the motion of ATA for a 90 day extension of the comment period. On behalf of its 47 members, the Regional Airline Association (RAA) filed an answer (OST-1998-4043-74) on April 6, 2005, supporting ATA's motion for a 90 day extension of the comment period. On April 7, 2005, the Airports Council International—North America (ACI-NA) filed an answer (OST-1998-4043-75) supporting ATA's motion for a 90 day extension of the comment period. American Airlines, Inc. (AA) filed its own motion (OST-1998-4043-76) on April 7, 2005, also requesting a 90 day extension of the comment period.

In their motions, both ATA and AA discussed the length and complexity of the NPRM and the need for affected parties to understand and evaluate the implications of the proposed rulemaking. ATA noted that this rulemaking is likely to be a “once-in-a-generation” undertaking and that “such a comprehensive reexamination of air carrier reporting requirements will not recur for a long time.”

RAA observed that “[t]he length and complexity of the NPRM require more time for a proper analysis of the proposal” and ATPCO asserted that “[a] 90 day extension is reasonable given the scope of the suggested changes and the need for careful consideration of implications of those changes prior to the submission of comments on the NPRM.” ACI-NA agreed, stating that “granting ATA's motion would give DOT a more extensive, thorough and considered record on which to base its decisions without unduly delaying the rulemaking process.” ARC noted that “an extension will enable the parties to submit comments that more fully respond to the NPRM but will not unduly delay the rulemaking process.”

Because it appears that an extension of the comment period to allow additional time for commenters to address the proposals in the NPRM would be beneficial and in the public interest, we are allowing an additional 90 days for submission of comments, which should be sufficient to accommodate commenters' need for additional time.

Electronic Access: You can view and download this NPRM and any of the comments by going to the website of the Department's Docket Management System http://dms.dot.gov/. On that page, click on “simple search.” On the next page, type in the last four digits of the docket number shown on the first page of this document, 4043. Then click on “search.” An electronic copy of this document also may be downloaded from http://regulations.gov and from the Government Printing Office's Electronic Bulletin Board Service at (202) 512-1661. Internet users may reach the Office of the Federal Register's home page at: http://www.archives.gov/federal_register/index.html and the Government Printing Office's database at: http://www.gpoaccess.gov/fr/ index.html. Anyone is able to search the electronic form of all comments received into any of our dockets by the name of the individual submitting the comment (or signing the comment, if submitted on behalf of an association, business, labor union, etc.). You may review the Department's complete Privacy Act Statement in the Federal Register published on April 11, 2000 (65 FR 19477-78) or you may visit http://dms.dot.gov.

Issued in Washington, DC, on April 13, 2005.
Jeffrey Rosen,
General Counsel.

[FR Doc. 05-7772 Filed 4-14-05; 12:07 pm]

BILLING CODE 4910-62-P